DEPARTMENT OF COMMERCE

National Oceanic and Atmospheric Administration

[Docket No. 000616180-4095-08]

RIN 0648-ZA91

NOAA Climate and Global Change Program, FY 2005 Program Announcement; Correction

AGENCY: Office of Global Programs, Office of Oceanic and Atmospheric Research, National Oceanic and Atmospheric Administration, Department of Commerce.

ACTION: Notice; correction.

SUMMARY: The Office of Global Program, Office of Oceanic and Atmospheric Research, National Oceanic and Atmospheric Administration, published a document in the Federal Register of March 25, 2004, concerning the Climate and Global Change Program which represents a National Oceanic and Atmospheric Administration (NOAA) contribution to evolving national and international programs designed to improve our ability to observe, understand, predict, and respond to changes in the global environment. This program builds on NOAA's mission requirements and long-standing capabilities in global change research and prediction. The NOAA Program is a key contributing element of the U.S. Climate Change Science Program (CCSP), which is coordinated by the interagency Committee on Environmental and Natural Resources. NOAA's program is designed to complement other agencies' contributions to that national effort.

FOR FURTHER INFORMATION CONTACT: Diane S. Brown, Grants Manager, phone 301-427-2089, ext. 107.

Correction

In the Federal Register of March 25, 2004, in FR Doc. No. 000616180-4095-08, on page 15299, in the first column, correct the DATES caption to read:

DATES: Letters of Intent should be received by 5 p.m. Eastern Time April 22, 2004. Full proposals must be received at the Office of Global Programs no later than 5 p.m. Eastern Time June 18, 2004.

Dated: March 26, 2004.
Louisa Koch,
Deputy Assistant Administrator, OAR, National Oceanic and Atmospheric Administration.

[FR Doc. 04-7187 Filed 3-30-04; 8:45 am]

BILLING CODE 3510-KB-P